DEPARTMENT OF COMMERCE

Bureau of Industry and Security

15 CFR Part 713

[Docket No. 230502-0117]

RIN 0694-AI54

Chemical Weapons Convention Regulations: Reducing the Concentration Level Above Which Mixtures Containing Schedule 2A Chemicals Are Subject to Declaration and Reporting Requirements

AGENCY: Bureau of Industry and Security, Commerce.

ACTION: Final rule.

SUMMARY: The Bureau of Industry and Security (BIS) is publishing this final rule to amend the Chemical Weapons Convention Regulations (CWCR) to reduce the concentration threshold level above which mixtures containing a Schedule 2A chemical are subject to the declaration requirements that apply to Schedule 2A chemical production, processing and consumption under the Chemical Weapons Convention (CWC). This final rule also amends the CWCR to reduce the concentration threshold level above which mixtures containing a Schedule 2A chemical are subject to the declaration and reporting requirements that apply to exports and imports of Schedule 2A chemicals under the CWC. These regulatory amendments bring the CWCR into further alignment with guidelines adopted by the Organization for the Prohibition of Chemical Weapons (OPCW) Conference of the States Parties (CSP), which established a low concentration limit for Schedule 2A chemicals.

DATES: This rule is effective July 3, 2023.

FOR FURTHER INFORMATION CONTACT: For questions on the CWCR requirements that apply to Schedule 2 chemicals (which include Schedule 2A “Toxic Chemicals” and Schedule 2B “Precursors”), contact Erica Sunyog, Treaty Compliance Division, Office of Nonproliferation and Treaty Compliance, Bureau of Industry and Security, U.S. Department of Commerce, Phone: (202) 482-6237.

SUPPLEMENTARY INFORMATION:

Background

The Convention on the Prohibition of the Development, Production, Stockpiling and Use of Chemical Weapons and on Their Destruction (also known as the Chemical Weapons Convention and, hereinafter, “CWC” or “Convention”), which entered into force on April 29, 1997, is an international arms control treaty that aims to eliminate an entire category of weapons of mass destruction by prohibiting the development, production, acquisition, stockpiling, retention, transfer or use of chemical weapons by States Parties (i.e., the countries that have ratified or acceded to the CWC). Under the CWC, States Parties have agreed to destroy any stockpiles of chemical weapons that they may hold, any chemical weapons production facilities that they own or possess, and any chemical weapons that they abandoned on the territory of other States Parties. The CWC established the OPCW to achieve the object and purpose of the Convention, to ensure the implementation of its provisions (including those pertaining to international verification of compliance), and to provide a forum for consultation and cooperation among the CWC States Parties. All CWC States Parties are members of the OPCW.

Under the CWC, States Parties have agreed to implement a comprehensive data declaration, notification, and inspection regime to provide transparency and to verify that relevant facilities are not engaged in activities prohibited under the CWC. Article VI of the CWC and the CWC's Verification Annex set out declaration, notification, and inspection requirements for three categories of scheduled chemicals (Schedule 1, Schedule 2, and Schedule 3 chemicals) and for unscheduled discrete organic chemicals (i.e., carbon compounds other than oxides, sulfides, and metal carbonates that are not listed in Schedule 1, Schedule 2, or Schedule 3) when produced, processed, or consumed in excess of certain thresholds. The Verification Requirements for Schedule 2 (including Schedule 2A) chemicals are specified in Part VII of the Verification Annex (“Schedule 2 Regime”).

The CWC's Annex on Chemicals identifies the criteria for listing chemicals in Schedule 1, Schedule 2, or Schedule 3, and lists the specific chemicals included on each Schedule. There are three Schedule 2A chemicals listed in the Annex on Chemicals:

(1) Amiton: 0,0-Diethyl S-[2-(diethylamino)ethyl] phosphorothiolate and corresponding alkylated or protonated salts (78-53-5);

(2) PFIB: 1,1,3,3,3-Pentafluoro-2-(trifluoromethyl)-1-propene (382-21-8); and

(3) BZ: 3-Quinuclidinyl benzilate (6581-06-2).

As stated in the guidelines pertaining to Schedule 2 chemicals that are set forth in the CWC's Annex on Chemicals, the inclusion of these three chemicals on Schedule 2A reflects a determination by the CWC States Parties that these chemicals pose “a significant risk to the object and purpose of the Convention” due to their “lethal or incapacitating toxicity” and that they are “not produced in large commercial quantities for purposes not prohibited” under the CWC. Two of the three chemicals (Amiton and BZ) are defense articles subject to the International Traffic in Arms Regulations (ITAR) (22 CFR parts 120-130), which include registration, recordkeeping, and export and reexport licensing requirements that are administered by the Department of State. The third chemical (PFIB) is a waste product from the production of fluoromonomers, which are unscheduled discrete organic chemicals under the CWC. PFIB (including mixtures with concentrations well under 10%) is specified on the Commerce Control List (CCL), supp. no. 1 to part 774 of the Export Administration Regulations (EAR) and thereby subject to export license requirements administered by BIS. According to export data collected by BIS, exports of PFIB are minimal.

The provisions of the CWC that affect commercial activities involving scheduled chemicals are implemented, pursuant to the Chemical Weapons Convention Implementation Act of 1998 (CWCIA) (22 U.S.C. 6701 et seq.) and Executive Order 13128 (64 FR 34703, June 28, 1999), by the CWCR (15 CFR parts 710-722) and the EAR (15 CFR 742.18 and part 745). BIS administers both the CWCR and the EAR. BIS maintains the list of Schedule 2A chemicals in the CWCR (supplement no. 1 to part 713) and the EAR (supplement no. 1 to part 745). BIS also administers the declaration, reporting, notification, and verification requirements, including those for Schedule 2A chemicals, that are described in parts 713 and 716 of the CWCR.

The Regime for Schedule 2 Chemicals and Facilities Related to such Chemicals (CWC Verification Annex, Part VII), provides in paragraph 5 that declarations “are generally not required for mixtures containing a low concentration of a Schedule 2 chemical” and are only required in accordance with guidelines approved by the Conference of the States Parties to the Convention “in cases where the ease of recovery from the mixture of the Schedule 2 chemical and its total weight are deemed to pose a risk to the object and purpose of [the] Convention.” Prior to the approval of such guidelines, the CWCIA was enacted (in October 1998) and the CWCR were implemented (on December 30, 1999). The CWCIA prohibits the imposition of routine inspection or reporting requirements pertaining to mixtures containing a Schedule 2 chemical if the concentration of the Schedule 2 chemical in the mixture is less than 10 percent (see 22 U.S.C. Chapter 75, section 6742(a)(1)). Prior to the issuance of this rule, the CWCR required that the calculation of the quantity of any single Schedule 2 chemical that was produced, processed, or consumed also include the quantities produced, processed or consumed in mixtures when the concentration of the Schedule 2 chemical in the mixture was 30% or more by volume or by weight, whichever yielded the lesser percentage (15 CFR 713.2(a)(3)).

Nearly ten years following the enactment of the CWCIA, at the Fourteenth Session of the CSP (November 30-December 4, 2009), the States Parties adopted guidelines regarding low-concentration limits, detailed in document “Decision C-14/DEC.4” (“OPCW Guidelines”), for Schedule 2A chemicals. These guidelines provide that declarations are not required under Part VII of the Verification Annex for a chemical mixture containing a Schedule 2A chemical, if the concentration of the Schedule 2A chemical in the mixture is:

(1) 1% or less; or

(2) More than 1%, but less than or equal to 10%, provided that the annual amount of the Schedule 2A chemical produced, processed or consumed is less than the relevant verification threshold, which is ten times the relevant declaration threshold.

This final rule accordingly amends part 713 of the CWCR by reducing the concentration threshold level above which mixtures containing a Schedule 2A chemical are counted toward the declaration and reporting requirements described in the CWCR. This change makes the Schedule 2A mixture concentration threshold consistent with the OPCW Guidelines, subject to the constraint imposed by the 10% low concentration threshold limit allowed under the CWCIA. Specifically, this final rule amends the CWCR to replace the previous low concentration threshold for mixtures containing a Schedule 2A chemical (i.e., a concentration of 30% or more, by volume or weight) with a low concentration threshold of 10% or more. This rule modifies only the declaration requirements under the CWCR for mixtures containing Schedule 2A chemicals; it does not modify the declaration requirements for any other chemicals or any requirements applicable to the three Schedule 2A chemicals under either the EAR or ITAR.

Amendments to Section 713.2 of the CWCR—Annual Declaration Requirements for Plant Sites That Produce, Process or Consume Schedule 2 Chemicals in Excess of Specified Thresholds

Section 713.2 of the CWCR requires submission of a declaration from a plant site if one or more plants at that site produced, processed or consumed a Schedule 2 chemical during any of the three previous calendar years, or anticipate doing so in the next calendar year, in excess of the declaration threshold (i.e., the quantity specified for that Schedule 2 chemical in § 713.2(a)(1)(i)(A)(1) through (3) of the CWCR). Since the low concentration threshold for Schedule 2A chemicals now differs from the low concentration threshold for Schedule 2B chemicals, this rule revises the text of the current § 713.2(a)(3)(i) and adds paragraphs (a)(3)(i)(A), specific to Schedule 2A chemicals, and (a)(3)(i)(B), specific to Schedule 2B chemicals. Section 713.2(a)(3)(i)(A) reduces the low concentration threshold for the declaration requirements that apply to mixtures containing a Schedule 2A chemical from a concentration of 30% or more of the Schedule 2A chemical by volume or weight, whichever formula yields the lesser percentage, to a concentration of 10% or more of the Schedule 2A chemical by volume or weight, whichever yields the lesser percentage. To distinguish the low concentration threshold for Schedule 2B chemicals, which remains unchanged, from the new low concentration threshold for Schedule 2A chemicals, the low concentration threshold for the declaration requirements that apply to the production, processing or consumption of mixtures containing a Schedule 2B chemical is separately described in § 713.2(a)(3)(i)(B) of the CWCR and remains at a concentration of 30% or more by volume or weight, whichever formula yields the lesser percentage.

This rule also makes conforming changes to § 713.2(a)(3)(ii) and (iii) of the CWCR to reflect the change described above in the low concentration threshold for mixtures containing Schedule 2A chemicals. In addition, this rule adds Notes 1 through 4 to § 713.2(a)(3). Notes 1 and 2 provide examples of how to determine declaration and reporting requirements for mixtures containing a Schedule 2A chemical. Notes 3 and 4 contain updated versions of examples that were previously included in § 713.2(a)(3)(iii). These examples are included as Notes because their purpose is to clarify the application of the regulatory requirements described in § 713.2(a)(3).

Amendments to Section 713.3 of the CWCR—Annual Declaration and Reporting Requirements for Exports and Imports of Schedule 2 Chemicals

Section 713.3 of the CWCR requires the submission of declarations and/or reports of exports and imports of Schedule 2 chemicals from declared plant sites, undeclared plant sites, and trading companies, along with any other persons subject to the CWCR, if such entities or persons exported or imported a Schedule 2 chemical in a quantity above the applicable threshold level, including amounts in mixtures above the specified low concentration level. Since the low concentration threshold for Schedule 2A chemicals now differs from the low concentration threshold for Schedule 2B chemicals, this rule revises the text of the current § 713.3(b)(2) and adds paragraphs (b)(2)(i)(A), specific to Schedule 2A chemicals, and (b)(2)(i)(B), specific to Schedule 2B chemicals. Section 713.3(b)(2)(i)(A) reduces the low concentration threshold for the declaration and reporting requirements that apply to exports and imports of mixtures containing a Schedule 2A chemical from a concentration of 30% or more of the Schedule 2A chemical by volume or weight, whichever formula yields the lesser percentage, to a concentration of 10% or more of the Schedule 2A chemical by volume or weight, whichever formula yields the lesser percentage. To distinguish the low concentration threshold for Schedule 2B chemicals, which remains unchanged, from the new low concentration threshold for Schedule 2A chemicals, the low concentration threshold for the declaration and reporting requirements that apply to exports and imports of mixtures containing a Schedule 2B chemical is separately described in § 713.3(b)(2)(i)(B) of the CWCR and remains at a concentration of 30% or more by volume or weight, whichever formula yields the lesser percentage.

This final rule revises Notes 1 and 2 to § 713.3(b)(2) and, consistent with the amendments described OPCW guidelines, adds § 713.3(b)(2)(ii) and (iii) to include, respectively, the information that was previously contained in these two notes. As revised, the notes provide examples of how to determine declaration and reporting requirements for exports and imports of mixtures containing a Schedule 2A chemical. New § 713.3(b)(2)(ii) clarifies how to count the amount of a Schedule 2 chemical in a mixture (i.e., the quantity of each Schedule 2A or Schedule 2B chemical in a mixture must be counted, separately; however, the total weight of the mixture must not be counted). New § 713.3(b)(2)(iii) includes a general reference to the low concentration threshold levels that are now described in § 713.3(b)(2)(i). It also clarifies that the Schedule 2A and Schedule 2B low concentration thresholds set forth in § 713.3(b)(2)(i) apply only for declaration and reporting purposes under the CWCR and not for other purposes (e.g., determining whether the export of a mixture requires an End-Use Certificate or a license per the relevant provisions in the EAR or the ITAR).

Rulemaking Requirements

1. Executive Orders 13563 and 12866 direct agencies to assess all costs and benefits of available regulatory alternatives and, if regulation is necessary, to select regulatory approaches that maximize net benefits (including: potential economic, environmental, public health and safety effects; distributive impacts; and equity). Executive Order 13563 emphasizes the importance of quantifying both costs and benefits and of reducing costs, harmonizing rules and promoting flexibility. This final rule has been determined to be not significant for purposes of Executive Order 12866.

2. Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number. Although this rule amends the CWCR to reduce the low concentration threshold for mixtures containing Schedule 2A chemicals for purposes of the applicable declaration and reporting requirements and, in so doing, indirectly affects the burden imposed by certain Schedule 2A chemical requirements in the EAR, BIS believes that the overall increases in burdens associated with the following information collections will be minimal:

• OMB control number 0694-0091 (Chemical Weapons Convention Declaration and Report Handbook and Forms & Chemical Weapons Convention Regulations (CWCR))—this collection includes all Schedule 1, Schedule 2, Schedule 3, and unscheduled discrete organic chemical CWCR declarations, reports, notifications, and on-site inspections of chemical facilities and carries a total burden estimate of 15,815, of which an estimated 762 hours pertain to the Schedule 2 (i.e., both Schedule 2A and Schedule 2B) declaration regime and 12,117 pertain to inspections across all (i.e., Schedule 1, Schedule 2, Schedule 3, and unscheduled discrete organic chemical) facilities;

• OMB control number 0694-0117 (Chemical Weapons Convention Provisions of the Export Administration Regulations (EAR))—this collection includes Schedule 1 chemical advance notifications and annual reports, Schedule 3 chemical End-Use Certificates, and exports of “technology” to produce certain Schedule 2 and Schedule 3 chemicals and carries a total burden estimate of 53 hours.

BIS does not expect the burden hours associated with these collections to change. This rule changes the declaration requirements only for mixtures containing between 10 and 30 percent of three chemicals with extremely limited commercial applications. Two of the three chemicals at issue (i.e., the chemical Amiton: 0,0 Diethyl S-[2-(diethylamino) ethyl] phosphorothiolate and corresponding alkylated or protonated salts and the chemical BZ: 3- Quinuclidinyl benzilate) are defense articles subject to the export licensing jurisdiction of the Department of State under the ITAR. Manufacturers, exporters, and temporary importers of these items are therefore required to register under the ITAR (22 CFR122.1) and are subject to recordkeeping obligations under the ITAR including maintenance of records concerning the manufacture, acquisition, and disposition of defense articles (22 CFR 122.5). This final rule does not impose a significant additional burden on companies that produce or export Amiton and BZ because the companies are already required to maintain sufficient records to comply with their recordkeeping obligations under ITAR. The third chemical (the chemical PFIB: 1,1,3,3,3-Pentafluoro-2(trifluoromethyl)- 1-propene) is a byproduct of fluoromonomer production. Producers of fluoromonomers are already subject to the CWC declaration and inspection requirements for unscheduled discrete organic chemicals, which include regular, thorough site inspections under the procedures set out in Part IX of the Verification Annex to the CWC and implemented in part 715 of the CWCR. Consequently, BIS anticipates that this rule will impose few, if any, new reporting obligations on any U.S. company. These changes to the burden hours are within the bounds of the existing estimates.

Additional information regarding these collections of information, including all background materials, can be found at https://www.reginfo.gov/public/do/PRAMain and using the search function to enter either the title of the collection or the OMB Control Number.

3. This rule does not contain policies with federalism implications as that term is defined in Executive Order 13132.

4. The provisions of the Administrative Procedure Act (5 U.S.C. 553) (APA), requiring notice of proposed rulemaking, the opportunity for public participation and a delay in effective date, are waived for good cause as unnecessary and contrary to the public interest (see 5 U.S.C. 553(b)(B)). A delay of this rulemaking to provide an opportunity for public comment is unnecessary because this rule implements, to the extent permitted by the CWCIA, a treaty obligation. Specifically, paragraph 5 of Part VII of the CWC Verification Annex provides for declarations to be provided in accordance with guidelines adopted by the CSP regarding low-concentration mixtures of Schedule 2 chemicals. CSP Decision C-14/DEC.4 adopted such guidelines, which provide a low concentration limit of 1% for Schedule 2A chemicals, or 10% provided that the annual amount produced of the Schedule 2A chemical does not exceed certain specified thresholds. The decision adopting the guidelines further called for the States Parties, in accordance with their domestic legal processes, to implement the guidelines as soon as practicable.

Similarly, a delay of this rulemaking to provide notice and opportunity for public comment would be contrary to the public interest, as would a 30-day delay in effective date. In light of U.S. obligations under the CWC, this rule serves the public interest by implementing without further delay the OPCW guidelines under U.S. domestic law.

Because a notice of proposed rulemaking and an opportunity for public comment are not required to be given for this rule by the APA or any other law, the analytical requirements of the Regulatory Flexibility Act (5 U.S.C. 601 et seq.) are not applicable. Accordingly, no regulatory flexibility analysis is required, and none has been prepared.

List of Subjects

15 CFR Part 713

Chemicals, Exports, Foreign trade, Imports, Reporting and recordkeeping requirements.

For the reasons stated in the preamble, part 713 of the Chemical Weapons Convention Regulations (15 CFR parts 710-722) is amended as follows:

PART 713—ACTIVITIES INVOLVING SCHEDULE 2 CHEMICALS

1. The authority citation for 15 CFR part 713 continues to read as follows:

Authority: 22 U.S.C. 6701 et seq.; 50 U.S.C. 1601 et seq.; 50 U.S.C. 1701 et seq.; E.O. 12938, 59 FR 59099, 3 CFR, 1994 Comp., p. 950, as amended by E.O. 13094, 63 FR 40803, 3 CFR, 1998 Comp., p. 200; E.O. 13128, 64 FR 36703, 3 CFR 1999 Comp., p. 199.

2. Amend § 713.2 by revising paragraph (a)(3) to read as follows:

§ 713.2 Annual declaration requirements for plant sites that produce, process or consume Schedule 2 chemicals in excess of specified thresholds.

(a) * * *

(3) Mixtures containing a Schedule 2 chemical—(i) Mixtures that must be counted. When determining the total quantity of a Schedule 2 chemical produced, processed or consumed at a plant on your plant site, you must count the quantity of each Schedule 2 chemical in a mixture, in the following circumstances:

(A) Schedule 2A chemicals in mixtures. The concentration of each Schedule 2A chemical in the mixture is 10% or more by volume or weight, whichever yields the lesser percentage;

(B) Schedule 2B chemicals in mixtures. The concentration of each Schedule 2B chemical in the mixture is 30% or more by volume or weight, whichever yields the lesser percentage.

(ii) How to count the quantity of each Schedule 2 chemical in a mixture. You must count, separately, the quantity of each Schedule 2A or Schedule 2B chemical in a mixture when determining the total quantity of a Schedule 2 chemical produced, processed or consumed at a plant on your plant site. Do not count the total weight of a mixture.

(iii) Determining declaration requirements for production, processing and consumption. If the total quantity of a Schedule 2 chemical produced, processed or consumed at a plant on your plant site, including mixtures that contain 10% or more concentration of a Schedule 2A chemical or 30% or more concentration of a Schedule 2B chemical, exceeds the applicable declaration threshold set forth in paragraphs (a)(1)(i)(A)(1) through (3) of this section, you have a declaration requirement and must separately declare each Schedule 2A or Schedule 2B chemical.

Note 1 to § 713.2(a)(3)—Example: If, during the past calendar year, a plant on your plant site produced, processed, or consumed a mixture containing 130 kilograms of PFIB with a concentration of 12%, the total amount of PFIB produced, processed, or consumed at that plant for CWCR purposes would be 130 kilograms, which exceeds the declaration threshold of 100 kilograms for that Schedule 2A chemical. Consequently, you must declare 130 kilograms of production, processing, or consumption of PFIB at that plant site during the past calendar year.

Note 2 to § 713.2(a)(3)—Example: If, during the past calendar year, a plant on your plant site produced, processed, or consumed a mixture containing 130 kilograms of PFIB with a concentration of 8%, the total amount of PFIB produced, processed, or consumed at that plant for CWCR purposes would be 0 kilograms, which would not trigger a declaration requirement. This outcome is based on the fact that the concentration of PFIB in the mixture is less than 10% and, for CWCR purposes would not have to be “counted.”

Note 3 to § 713.2(a)(3)—Example: If, during the past calendar year, a plant on your plant site produced a mixture containing 300 kilograms of thiodiglycol with a concentration of 32% and also produced 800 kilograms of pure thiodiglycol, the total amount of thiodiglycol produced at that plant for CWCR purposes would be 1,100 kilograms, which exceeds the declaration threshold of 1 metric ton for that Schedule 2B chemical. Consequently, you must declare production of thiodiglycol at that plant site during the past calendar year.

Note 4 to § 713.2(a)(3)—Example: If, during the past calendar year, a plant on your plant site processed a mixture containing 300 kilograms of thiodiglycol with a concentration of 25% and also processed 800 kilograms of pure thiodiglycol, the total amount of thiodiglycol processed at that plant for CWCR purposes would be 800 kilograms and would not trigger a declaration requirement. This outcome is based on the fact that the concentration of thiodiglycol in the mixture is less than 30% and, therefore, would not have to be “counted” and added to the 800 kilograms of pure thiodiglycol processed at that plant during the past calendar year.

* * * * *

3. Amend § 713.3 by revising paragraph (b)(2) to read as follows:

§ 713.3 Annual declaration and reporting requirements for exports and imports of Schedule 2 chemicals.

* * * * *

(b) * * *

(2) Mixtures containing a Schedule 2 chemical—(i) Mixtures that must be counted. The quantity of each Schedule 2 chemical contained in a mixture must be counted for the declaration or reporting of an export or import, in the following circumstances:

(A) Schedule 2A chemicals in mixtures. The concentration of each Schedule 2A chemical in the mixture is 10% or more by volume or weight, whichever yields the lesser percentage;

(B) Schedule 2B chemicals in mixtures. The concentration of each Schedule 2B chemical in the mixture is 30% or more by volume or weight, whichever yields the lesser percentage.

(ii) How to count the quantity of each Schedule 2 chemical in a mixture. You must count, separately, the quantity of each Schedule 2A or Schedule 2B chemical in a mixture when determining the total quantity of a Schedule 2 chemical that was exported from or imported to a declared plant site, or individually exported or imported, above the applicable threshold set forth in paragraphs (b)(1)(i) through (iii) of this section. Do not count the total weight of a mixture.

(iii) Mixture concentration thresholds apply only for declaration and reporting purposes. The concentration thresholds for Schedule 2A and Schedule 2B chemical mixtures set forth in paragraph (b)(2)(i) of this section apply only for the declaration and reporting purposes described in the CWCR. These thresholds do not apply for purposes of determining whether the export of your mixture to a non-State Party requires an End-Use Certificate. Nor do they apply for purposes of determining whether you need to obtain an export license from BIS (see § 742.2, § 742.18 and § 745.2 of the Export Administration Regulations (15 CFR parts 730 through 774)) or from the Department of State (see the International Traffic in Arms Regulations (22 CFR parts 120 through 130)).

Note 1 to § 713.3(b)(2)—Example: If, during the past calendar year, your plant site exported or imported a mixture containing 3 kilograms of Amiton with a concentration of 12%, the total amount of Amiton exported or imported for CWCR purposes is 3 kilograms, which exceeds the declaration threshold of 1 kilogram for that Schedule 2A chemical. Consequently, you must declare 3 kilograms of export or import at that plant site during the past calendar year.

Note 2 to § 713.2(b)(2)—Example: If, during the past calendar year, your plant site exported or imported a mixture containing 3 kilograms of Amiton with a concentration of 8%, the total amount of Amiton exported or imported for CWCR purposes would be 0 kilograms and would not trigger a declaration requirement. This outcome is based on the fact that the concentration of Amiton in the mixture is less than 10% and, therefore, would not have to be “counted.”

* * * * *

Matthew S. Borman,
Deputy Assistant Secretary for Export Administration.

[FR Doc. 2023-13736 Filed 6-30-23; 8:45 am]

BILLING CODE 3510-33-P